DEPARTMENT OF THE TREASURY

Community Development Financial Institutions Fund

Notice of Information Collection and Request for Public Comment

ACTION: Notice and request for public comment.

SUMMARY: The U.S. Department of the Treasury, as part of its continuing effort to reduce paperwork and respondent burden, invites the general public and other Federal agencies to take this opportunity to comment on proposed and/or continuing information collections, as required by the Paperwork Reduction Act of 1995. Currently, the Community Development Financial Institutions Fund (CDFI Fund), U.S. Department of the Treasury, is soliciting comments concerning the New Markets Tax Credit Program (NMTC Program) Allocation and Qualified Equity Investment Tracking System (AQEI).

DATES: Written comments must be received on or before January 27, 2023 to be assured of consideration.

ADDRESSES: Submit your comments via email to Heather Hunt, Program Manager for the Office of Compliance Monitoring and Evaluation (OCME), CDFI Fund at CCME@cdfi.treas.gov.

FOR FURTHER INFORMATION CONTACT: Requests for additional information should be directed to Heather Hunt, OCME Program Manager, CDFI Fund, U.S. Department of the Treasury, 1500 Pennsylvania Avenue NW, Washington, DC 20220, (202) 653-0423 (not a toll-free number). Other information regarding the CDFI Fund and its programs may be obtained on the CDFI Fund website at https://www.cdfifund.gov.

SUPPLEMENTARY INFORMATION: Title: Allocation and Qualified Equity Investment Tracking System.

OMB Number: 1559-0024.

Abstract: Title I, subtitle C, section 121 of the Community Renewal Tax Relief Act of 2000 (the Act), as enacted by section 1(a)(7) of the Consolidated Appropriations Act, 2001 (Pub. L. 106-554, December 21, 2000), amended the Internal Revenue Code (IRC) by adding IRC sec. 45D, New Markets Tax Credit. Pursuant to IRC sec. 45D, the Department of the Treasury, through the CDFI Fund, administers the NMTC Program, which provides an incentive to investors in the form of tax credits over seven years and stimulates the provision of private investment capital that, in turn, facilitates economic and community development in low-income communities. In order to qualify for an allocation of NMTC Program authority, an entity must be certified as a qualified Community Development Entity and submit an allocation application to the CDFI Fund. Upon receipt of such applications, the CDFI Fund conducts a competitive review process to evaluate applications for the receipt of NMTC Program allocations. Entities selected to receive an NMTC Program allocation must enter into an Allocation Agreement with the CDFI Fund. The Allocation Agreement contains the terms and conditions, including all reporting requirements, associated with the receipt of a NMTC Program allocation. The CDFI Fund requires each Allocatee to use an electronic data collection and submission system, known as the Allocation and Qualified Equity Investment Tracking System (AQEI), to report on the information related to its receipt of a Qualified Equity Investment. The CDFI Fund developed the AQEI to, among other things: (1) enhance the Allocatee's ability to report to the CDFI Fund timely information regarding the issuance of its Qualified Equity Investments; (2) enhance the CDFI Fund's ability to monitor the issuance of Qualified Equity Investments to ensure that no Allocatee exceeds its allocation authority and to ensure that Qualified Equity Investments are issued within the timeframes required by the Allocation Agreement and IRC § 45D; (3) provide the CDFI Fund with basic investor data that can be aggregated and analyzed in connection with NMTC Program evaluation efforts; and (4) provide the CDFI Fund with information about the status of Qualified Active Low-Income Community Businesses and Qualified Low-Income Community Investments at the end to the tax credit compliance period.

Current Actions: Renewal of Existing Information Collection.

Type of Review: Regular.

Affected Public: NMTC Program Allocatees.

Estimated Number of Respondents: 104.

Frequency of Responses: Annually.

Estimated Total Number of Annual Responses: 104.

Estimated Annual Time per Respondent: 20 hours.

Estimated Total Annual Burden Hours: 2,080 hours.

Requests for Comments: Comments submitted in response to this notice will be summarized and/or included in the request for OMB approval. All comments will become a matter of public record. Comments are invited on: (a) whether the collection of information is necessary for the proper performance of the functions of the agency, including whether the information has practical utility; (b) the accuracy of the agency's estimate of the burden of the collection of information; (c) ways to enhance the quality, utility, and clarity of the information collected; (d) ways to minimize the burden of the collection of information on respondents, including through the use of technology; and (e) estimates of capital or start-up costs and costs of operation, maintenance, and purchase of services required to provide information. An agency may not conduct or sponsor, and a person is not required to respond to, a collection of information unless the collections of information displays a valid OMB control number. Current reporting requirements are on the CDFI Fund website at https://www.cdfifund.gov/. Current versions of the AQEI and QEI Closeout Report guidance is available at https://www.cdfifund.gov/amis-reporting.

Authority: 12 U.S.C. 4701 et seq.; 26 U.S.C. 45D, 44 U.S.C. 3501 et seq.).

Jodie L. Harris,
Director, Community Development Financial Institutions Fund.

[FR Doc. 2022-25781 Filed 11-25-22; 8:45 am]

BILLING CODE 4810-70-P